DEPARTMENT OF TRANSPORTATION

Surface Transportation Board

[Sec. 5a Application No. 118 (Sub-No. 2), et al.]

EC-MAC Motor Carriers Service Association, Inc., et al.¹

¹ This proceeding embraces the following other motor carrier rate bureau renewal applications:Pacific Inland Tariff Bureau, Inc.—Renewal of Agreement, Section 5a Application No. 22 (Sub-No. 8);The New England Motor Rate Bureau, Inc., Section 5a Application No. 25 (Sub-No. 9); Middlewest Motor Freight Bureau, Inc.—Renewal of Agreement, Section 5a Application No. 34 (Sub-No. 10); Niagara Frontier Tariff Bureau, Inc., Section 5a Application No. 45 (Sub-No. 16); Southern Motor Carriers Rate Conference, Inc., Section 5a Application No. 46 (Sub-No. 21); Carriers Traffic Association—Agreement, Section 5a Application No. 55 (Amendment No. 2); Machinery Haulers Association Inc.—Agreement, Section 5a Application No. 58 (Sub-No. 4); Rocky Mountain Motor Tariff Bureau, Inc., Section 5a Application No. 60 (Sub-No. 11); Nationwide Bulk Trucking Association, Inc.—Agreement, Section 5a Application No. 63 (Sub-No. 4); Western Motor Tariff Bureau, Inc—Agreement., Section 5a Application No. 70 (Sub-No. 12); and Willamette Tariff Bureau, Inc.—Renewal of Agreement, STB Section 5a Agreement No. 116 (Sub-No. 1).

AGENCY: Surface Transportation Board.

ACTION: Request for proposals and comments.

SUMMARY: The Surface Transportation Board (Board) seeks suggested methodologies that the motor carrier rate bureaus that have applied for renewal of their operating authority can use to adjust the collective rates established by their bureaus to prevailing levels of market based rates, as required by the Board's decisions in EC-MAC Motor Carriers Service Association, Inc., et al., Sec. 5a Application No. 118 (Amendment No. 1), et al. (STB served Dec. 18, 1998, and Feb. 11, 2000).

DATES: Opening proposals or comments are due April 11, 2000. Reply comments are due May 11, 2000.

ADDRESSES: Send an original and 10 copies of proposals, comments, and replies, referring to “Section 5a Application No. 118 (Sub-No. 2), et al.,” to: Surface Transportation Board, Office of the Secretary, Case Control Unit, 1925 K Street, NW., Washington, DC 20423.

FOR FURTHER INFORMATION CONTACT: Joseph H. Dettmar, (202) 565-1600. [TDD for the hearing impaired: 1-800-877-8338.]

SUPPLEMENTARY INFORMATION: Additional information is contained in the Board's decisions, which are available on our website at “WWW.STB.DOT.GOV.”

Decided: February 4, 2000.
By the Board, Chairman Morgan, Vice Chairman Burkes, and Commissioner Clyburn.
Vernon A. Williams,
Secretary.

[FR Doc. 00-3136 Filed 2-10-00; 8:45 am]

BILLING CODE 4915-00-P